DEPARTMENT OF THE TREASURY

Agency Information Collection Activities; Submission for OMB Review; Comment Request; Departmental Offices Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before September 29, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

The Office of Economic Policy

Title: Agency Information Collection Activities; Proposed Collection; Comment Request; Application, Evaluation Design Plan, Reports, and Recordkeeping for the Social Impact Partnerships to Pay for Results Act (SIPPRA) Grant Program.

Office of Management and Budget (OMB) Control Number: 1505-0260.

Type of Review: Revision of a currently approved collection.

Description: SIPPRA, enacted February 9, 2018, amends Title XX of the Social Security Act, 42 U.S.C. 1397 et seq., to provide $100 million in funding to implement social impact partnership projects” (projects) and feasibility studies for such projects. SIPPRA authorizes the Secretary of the Treasury to enter into award agreements with state or local governments for projects or feasibility studies. Treasury, in consultation with other federal agencies, administers the SIPPRA grant program.

SIPPRA authorizes Treasury to conduct a request for proposals for projects, make award determinations, and enter into project award agreements. Treasury intends to publish a Notice of Funding Availability (NOFA) seeking applications for projects and anticipates that ten or more persons will respond to its NOFA announcing availability of funding for SIPPRA projects.

Although Treasury is asking applicants to use the SF-424 and SF-425 families of common forms for their applications and reports, Treasury also expects to solicit additional detailed information from applicants to effectively and efficiently assess and evaluate whether applications for projects comply with statutory requirements. This request includes only the burden for this additional information. The burden for the SF-424 forms is covered under OMB Control Numbers 4040-0004, 4040-0006, 4040-0007, 4040-0008, 4040-0009, 4040-0010, and 4040-0013. The burden for the SF-425 form is covered under OMB Control Number 4040-0014. The additional information includes the following components:

• SAM.gov registration;

○ Notice of Intent to Apply (optional);

○ Project Narrative, to include an Executive Summary;

○ Project Narrative Attachments, to include project budget, narrative statement addressing partnership agreements, an estimate of the value to the federal government of the interventions being proposed in the project, partner qualifications, independent evaluator qualifications, evaluation design plan, independent evaluator contract, outcome valuation (for which Treasury's SIPPRA website will provide guidance to assist applicants), legal compliance, and (optional) additional supporting documentation such as a preexisting feasibility study;

○ Treasury Office of Civil Rights and Diversity Assurances and Certifications, Terms and Conditions, and Compliance Data;

○ Additional documentation related to Title VI of the Civil Rights Act;

○ Copy of application proposing privileged or confidential information to be redacted;

○ Administrative Reporting, including a Quarterly Performance Report, Evaluation Progress Reports, and Final Evaluation Report; and

○ Records Retention requirements.

Use of the Data

The information collected under this NOFA: (1) Identifies eligible recipients and activities; (2) helps identify which applications sufficiently address all statutory requirements and which proposed projects are the most competitive; (3) determines the appropriate amount of funding; (4) allows evaluation of compliance with SIPPRA and Federal laws and policies on grants (e.g., Office of Management and Budget's Uniform Administrative Requirements, Cost Principles, and Audit Requirements for Federal Awards 2 CFR part 200, (herein OMB Uniform Guidance); Title VI of the Civil Rights Act); (5) tracks recipients' progress; and (6) collects statutorily mandated reports prepared by recipients' contracted independent evaluators.

The Notice of Intent is optional; it will assist Treasury and the Federal Interagency Council on Social Impact Partnerships (Interagency Council) in estimating the number of applications to be received, and thus, enable them to conduct intake and evaluation of applications as efficiently and economically as possible.

The application Executive Summary will assist Treasury and the Interagency Council in streamlining the processing of applications and in optimizing the eligibility phase of application review. The application standard forms, Project Narrative, and Project Narrative attachment components of the grant application are intended to provide Treasury with the information necessary to properly evaluate and assess whether applications include statutorily mandated information. Additionally, certain components of the application, in particular the evaluation design plan and outcome valuation, will enable the Interagency Council to determine whether to make statutorily mandated certifications regarding the proposed projects.

SAM.gov registration is required under the OMB Uniform Guidance.

To comply with the OMB Uniform Guidance performance and financial monitoring and reporting requirements, 2 CFR 200.328-200.330, Treasury intends to require a quarterly performance and annual financial report from grant recipients. SIPPRA requires that recipients submit progress reports prepared by an independent evaluator on a periodic basis and before the scheduled time of outcome payments. 42 U.S.C. 1397n-4(d). SIPPRA also requires that recipients submit a final report prepared by an independent evaluator within six months of a project's completion. 42 U.S.C. 1397n-4(e). Per the statute, Treasury will use these reports to determine if outcome payments are warranted.

Treasury intends to require recipients under this NOFA to comply with the OMB Uniform Guidance's record retention requirement, 2 CFR 200.334, which requires them to maintain records for three years after grant close-out.

SIPPRA establishes a Commission on Social Impact Partnerships (Commission) whose principal obligation is to make recommendations to Treasury regarding the funding of SIPPRA projects and feasibility studies. 42 U.S.C. 1397n-6. The Commission is subject to the provisions of the Federal Advisory Committee Act (FACA), which generally requires that documents made available to the Commission be made available for public inspection and copying. 5 U.S.C. app. section 10(b). Treasury may provide to the Commission all complete applications received under this NOFA from eligible applicants and would make all such applications available for public inspection and copying. However, FACA also provides that trade secrets and commercial or financial information that is privileged or confidential (confidential business information) under the Freedom of Information Act (FOIA) need not be made publicly available. 5 U.S.C. 552(b)(4). To assist Treasury in complying with FACA's public disclosure requirements while protecting confidential business information in accordance with FOIA, Treasury expects to request applicants to propose redactions of confidential business information. An applicant may omit pages for which it does not propose any redactions. Treasury expects to review the redactions proposed by each applicant.

Also, applicants must provide qualifications of key project personnel and partners. Applicants may voluntarily provide curriculum vitae for key project personnel and partners, but the application will not require that personally identifiable information (PII) is collected.

Planned Revisions to the Data Collection

For several reasons, Treasury expects to make a number of changes in the second SIPPRA NOFA relative to the first SIPPRA NOFA. Treasury understands that Congress intended for SIPPRA to be a demonstration program, which suggests that trying different strategies and approaches in the second NOFA and comparing them to those used in the first NOFA may be consistent with congressional intent. Treasury also believes that the revisions it plans may increase the number of applications it receives, reduce the burden on applicants and stakeholders, reduce application review time, and enhance the success of projects. Treasury is interested in receiving comments on applicants' experiences with the application process under the first NOFA and suggestions on revisions Treasury should consider in the second NOFA to make the application and application review process more user-friendly and efficient. The most salient revisions Treasury plans to make in the second NOFA are addressed below.

Treasury anticipates providing more guidance, expanded FAQs, and additional online resources to prospective applicants for the second NOFA. More specifically, Treasury plans to expand its guidance on evaluation plan design, causal impact measurement requirements, and quasi-experimental design criteria. Treasury anticipates the guidance it plans to provide in the second NOFA will reduce applicants' burden during the application process and recipients' burden throughout the project performance period. Treasury also anticipates this guidance will be one means by which Treasury and the Interagency Council may be able to reduce application review time.

Treasury also plans to replace the outcome valuation methodology, budget impact analysis, required in the first NOFA, with a different methodology, benefit-cost analysis. Treasury is planning on making this change because testing different approaches to value determination may help broaden insights in valuation practices in the pay for success field.

Through its outreach with Federal agencies and external stakeholders, Treasury has identified the need to make the application and the application review process more efficient for all parties. Treasury invites suggestions and specific strategies and efficiencies that Treasury may incorporate into the second NOFA that will increase administrative efficiencies to the extent permitted under the statute and other federal laws and regulations.

Under the first NOFA, Treasury provided applicants three months from the date of NOFA publication in the Federal Register to submit their applications. In the second NOFA, Treasury anticipates providing approximately five months from the date of publication for applicants to submit their applications. Treasury is interested in learning whether prospective applicants favor a shorter window of time to submit their applications, which would leave more time for project implementation, or conversely, if they favor a longer application timeframe (e.g., five or six months), which would give applicants more time to submit their applications, but less time for project implementation. (The statute does not permit Treasury to obligate funds beyond February 2028. Treasury is interested in an approach that provides an applicant sufficient time to submit an application while still providing sufficient project implementation time.)

Affected Public: State, Local, or Tribal Governments.

Estimated Number of Respondents: 25.

Estimated Frequency of Response: Once; on occasion.

Estimated Total Number of Annual Responses: 25.

Estimated Time per Response: 359 hours.

Estimated Total Annual Burden Hours: 8,975 hours.

(Authority: 44 U.S.C. 3501 et seq.)

Melody Braswell,
Treasury PRA Clearance Officer.

[FR Doc. 2022-18689 Filed 8-29-22; 8:45 am]

BILLING CODE 4810-AK-P